DEPARTMENT OF AGRICULTURE

Office of the Secretary

2 CFR Subtitle B, Ch. IV

5 CFR Ch. LXXIII

7 CFR Subtitle A; Subtitle B, Chs. I-XI, XIV-XVIII, XX, XXV-XXXVIII, XLII

9 CFR Chs. I-III

36 CFR Ch. II

48 CFR Ch. 4

Semiannual Regulatory Agenda, Fall 2023

AGENCY: Office of the Secretary, USDA.

ACTION: Semiannual Regulatory Agenda.

SUMMARY: This agenda provides summary descriptions of significant and not significant regulations being developed in agencies of the U.S. Department of Agriculture (USDA) in conformance with Executive Orders (E.O.) 12866, “Regulatory Planning and Review,” 13563, “Improving Regulation and Regulatory Review,” and 14094, “Modernizing Regulatory Review.” The agenda also describes regulations affecting small entities as required by section 602 of the Regulatory Flexibility Act, Public Law 96-354. This agenda also identifies regulatory actions that are being reviewed in compliance with section 610(c) of the Regulatory Flexibility Act. We invite public comment on those actions as well as any regulation consistent with Executive Orders 13563 and 14094.

USDA has attempted to list all regulations and regulatory reviews pending at the time of publication except for minor and routine or repetitive actions, but some may have been inadvertently missed. There is no legal significance to the omission of an item from this listing. Also, the dates shown for the steps of each action are estimated and are not commitments to act on or by the date shown.

USDA's complete regulatory agenda is available online at www.reginfo.gov. Because publication in the Federal Register is mandated for the regulatory flexibility agendas required by the Regulatory Flexibility Act (5 U.S.C. 602), USDA's printed agenda entries include only:

(1) Rules that are likely to have a significant economic impact on a substantial number of small entities; and

(2) Rules identified for periodic review under section 610 of the Regulatory Flexibility Act.

For this edition of the USDA regulatory agenda, the most important regulatory actions are summarized in a Statement of Regulatory Priorities that is included in the Regulatory Plan, which appears in both the online regulatory agenda and in part II of the Federal Register that includes the abbreviated regulatory agenda.

FOR FURTHER INFORMATION CONTACT: For further information on any specific entry shown in this agenda, please contact the person listed for that action. For general comments or inquiries about the agenda, please contact Mr. Michael Poe, Office of Budget and Program Analysis, U.S. Department of Agriculture, Washington, DC 20250, (202) 720-3257.

Dated: September 28, 2023.
Michael Poe,
Legislative and Regulatory Staff.

Agricultural Marketing Service—Proposed Rule Stage
Sequence No. | Title | Regulation Identifier No.
233 | Natural Grass Sod Promotion, Research, and Information Order (AMS-LP-21-0028) | 0581-AE07
234 | Organic Market Development for Mushrooms and Pet Food (AMS-NOP-22-0063) | 0581-AE13

Agricultural Marketing Service—Final Rule Stage
Sequence No. | Title | Regulation Identifier No.
235 | Inclusive Competition and Market Integrity Under the Packers and Stockyards Act (AMS-FTPP-21-0045) (Reg Plan Seq No. 2) | 0581-AE05
References in boldface appear in The Regulatory Plan in part II of this issue of the Federal Register.

Agricultural Marketing Service—Long-Term Actions
Sequence No. | Title | Regulation Identifier No.
236 | Organic Aquaculture Standards | 0581-AD34
237 | Inert Ingredients in Pesticides for Organic Production (AMS-NOP-21-0008) | 0581-AE02
238 | Organic Apiculture Production Standards | 0581-AE12

Agricultural Marketing Service—Completed Actions
Sequence No. | Title | Regulation Identifier No.
239 | Dairy Donation Program (AMS-DA-21-0013) | 0581-AE00
240 | Preserving Trust Benefits Under the Packers and Stockyards Act (AMS-FTPP-21-0015) | 0581-AE01
241 | Transparency in Poultry Grower Contracting and Tournaments (AMS-FTPP-21-0044) | 0581-AE03
242 | Organic Livestock and Poultry Standards (AMS-NOP-21-0073) | 0581-AE06
243 | Economic Adjustment Assistance for Textile Mills | 0581-AE26

Animal and Plant Health Inspection Service—Proposed Rule Stage
Sequence No. | Title | Regulation Identifier No.
244 | National List of Reportable Animal Diseases | 0579-AE39
245 | Revision to Horse Protection Act Regulations | 0579-AE70
246 | AQI User Fees | 0579-AE71

Animal and Plant Health Inspection Service—Final Rule Stage
Sequence No. | Title | Regulation Identifier No.
247 | Animal Disease Traceability; Electronic Identification | 0579-AE64

Animal and Plant Health Inspection Service—Long-Term Actions
Sequence No. | Title | Regulation Identifier No.
248 | Microchipping, Verifiable Signatures, Government Official Endorsement, and Mandatory Forms for Importation of Live Dogs; Cage Standards for Domestic Dogs | 0579-AE58

Animal and Plant Health Inspection Service—Completed Actions
Sequence No. | Title | Regulation Identifier No.
249 | Importation of Bovine Meat From Paraguay | 0579-AE73

Food and Nutrition Service—Long-Term Actions
Sequence No. | Title | Regulation Identifier No.
250 | National School Lunch and School Breakfast Programs: School Food Service Account Revenue Amendments Related to the Healthy, Hunger-Free Kids Act of 2010 | 0584-AE11
251 | Technical Changes for Supplemental Nutrition Assistance Program (SNAP) Benefit Redemption Systems | 0584-AE37
252 | Providing Regulatory Flexibility for Retailers in the Supplemental Nutrition Assistance Program (SNAP) | 0584-AE61
253 | Strengthening Integrity and Reducing Retailer Fraud in the Supplemental Nutrition Assistance Program (SNAP) | 0584-AE71
254 | Special Supplemental Nutrition Program for Women, Infants and Children (WIC): WIC Online Ordering and Transactions and Food Delivery Revisions to Meet the Needs of a Modern, Data-Driven Program | 0584-AE85

DEPARTMENT OF AGRICULTURE (USDA)

Agricultural Marketing Service (AMS)

Proposed Rule Stage

233. Natural Grass Sod Promotion, Research, and Information Order (AMS-LP-21-0028) [0581-AE07]

Legal Authority: 7 U.S.C. 7411 to 7425

Abstract: This action would establish of an industry-funded promotion, research, and information program for natural grass sod products. The proposed Natural Grass Sod Promotion, Research, and Information Order was submitted to the U.S. Department of Agriculture by Turfgrass Producers International, a group of natural grass sod producers. The program would conduct research, marketing, and promotion activities that will benefit the entire industry. Primary goals of the program would include educating consumers and stakeholders of the benefits of natural grass and providing producers with marketing tools they can use to grow their business. The goals identified in the proposed rule would only be attainable through a national research and promotion program for natural grass sod.

Timetable:

Action | Date | FR Cite
NPRM | 10/16/23 | 88 FR 71306
Proposed Rule: Referendum Procedures | 10/16/23 | 88 FR 71302
NPRM Comment Period End | 12/15/23 |
Comment Period End: Referendum Procedures | 12/15/23 |
Final Action | 04/00/24 |

Regulatory Flexibility Analysis Required: Yes.

Agency Contact: Jeana Harbison, Deputy Director of Livestock and Poultry Program, Department of Agriculture, Agricultural Marketing Service, Washington, DC 20024, Phone: 202 690-3192, Email: jeana.m.harbison@usda.gov.

RIN: 0581-AE07

234. Organic Market Development for Mushrooms and Pet Food (AMS-NOP-22-0063) [0581-AE13]

Legal Authority: 7 U.S.C. 6501

Abstract: This action seeks comments on proposed amendments to the USDA organic regulations that would clarify production and handling requirements for a) organic pet food standards and b) organic mushrooms. These products are currently certified organic to the standards for similar products like those for human consumption (pet food) or for crops (mushrooms). The proposed action seeks to increase regulatory certainty for these markets. Past National Organic Standards Board recommendations, public comments from the National Organic Program's March 2022 public listening session, and input from mushroom and pet food stakeholders have indicated a need for this rule.

Timetable:

Action | Date | FR Cite
NPRM | 01/00/24 |

Regulatory Flexibility Analysis Required: Yes.

Agency Contact: Jennifer Tucker, Deputy Administrator, USDA National Organic Program, Department of Agriculture, Agricultural Marketing Service, 1400 Independence Avenue SW, Washington, DC 20250, Phone: 202 260-8077, Email: jennifer.tucker@usda.gov.

RIN: 0581-AE13

DEPARTMENT OF AGRICULTURE (USDA)

Agricultural Marketing Service (AMS)

Final Rule Stage

235. Inclusive Competition and Market Integrity Under the Packers and Stockyards Act (AMS-FTPP-21-0045) [0581-AE05]

Regulatory Plan: This entry is Seq. No. 2 in part II of this issue of the Federal Register.

RIN: 0581-AE05

DEPARTMENT OF AGRICULTURE (USDA)

Agricultural Marketing Service (AMS)

Long-Term Actions

236. Organic Aquaculture Standards [0581-AD34]

Legal Authority: 7 U.S.C. 6501 to 6522

Abstract: This action would establish standards for organic production and certification of farmed aquatic animals and their products in the USDA organic regulations. This action would also add aquatic animals as a scope of certification and accreditation under the National Organic Program (NOP).

Timetable:

Action | Date | FR Cite
NPRM | To Be Determined

Regulatory Flexibility Analysis Required: Yes.

Agency Contact: Jennifer Tucker, Phone: 202 260-8077, Email: jennifer.tucker@usda.gov.

RIN: 0581-AD34

237. Inert Ingredients in Pesticides for Organic Production (AMS-NOP-21-0008) [0581-AE02]

Legal Authority: 7 U.S.C. 6501 to 6524

Abstract: Based on comments received from the September 2022 Advance Notice of Proposed Rulemaking and recommendations from the National Organic Standards Board (NOSB) expected in Fall 2024, this action would replace outdated references in USDA's organic regulations to U.S. Environmental Protection Agency (EPA) policy on inert ingredients in pesticides. Inerts, also identified as “other ingredients” on pesticide labels, are any substances other than the active ingredient that are intentionally added to pesticide products. References to outdated EPA policy appear in the USDA organic regulations in the National List of Allowed and Prohibited Substances (National List) and identify the inert ingredients allowed in pesticides for organic production.

Timetable:

Action | Date | FR Cite
ANPRM | 09/02/22 | 87 FR 54173
ANPRM Comment Period Extended | 10/11/22 | 87 FR 61268
ANPRM Comment Period End | 11/01/22 |
ANPRM Comment Period Extended End | 12/31/22 |
NPRM | To Be Determined

Regulatory Flexibility Analysis Required: Yes.

Agency Contact: Jennifer Tucker, Phone: 202 260-8077, Email: jennifer.tucker@usda.gov.

RIN: 0581-AE02

238. Organic Apiculture Production Standards [0581-AE12]

Legal Authority: 7 U.S.C. 6501

Abstract: This action proposes to amend the USDA organic regulations to reflect an October 2010 recommendation submitted to the Secretary by the National Organic Standards Board (NOSB) concerning the production of organic apicultural (or beekeeping) products.

Timetable:

Action | Date | FR Cite
NPRM | To Be Determined

Regulatory Flexibility Analysis Required: Yes.

Agency Contact: Jennifer Tucker, Phone: 202 260-8077, Email: jennifer.tucker@usda.gov.

RIN: 0581-AE12

DEPARTMENT OF AGRICULTURE (USDA)

Agricultural Marketing Service (AMS)

Completed Actions

239. Dairy Donation Program (AMS-DA-21-0013) [0581-AE00]

Legal Authority: Pub. L. 116-260, sec. 762

Abstract: This rulemaking would finalize the Dairy Donation Program, which was authorized in the Consolidated Appropriations Act of 2021. The Dairy Donation Program is a voluntary program that reimburses eligible dairy organizations for milk used to make eligible dairy products donated to non-profit groups for distribution to low-income persons.

Completed:

Action | Date | FR Cite
Final Rule | 08/24/23 | 88 FR 57861
Final Rule Effective | 08/25/23 |
Final Rule; Removal of Expiration Date | 08/31/23 | 88 FR 60105
Final Rule Effective | 08/31/23 |

Regulatory Flexibility Analysis Required: Yes.

Agency Contact: Erin Taylor, Phone: 202 720-7311, Email: erin.taylor@ams.usda.gov.

RIN: 0581-AE00

240. Preserving Trust Benefits Under the Packers and Stockyards Act (AMS-FTPP-21-0015) [0581-AE01]

Legal Authority: Pub. L. 116-260, sec. 763

Abstract: This action revised the Packers and Stockyards regulations to add provisions for written notifications related to the new livestock dealer trust. The revisions outlined the process for livestock sellers to notify livestock dealers and the Secretary of the seller's intent to preserve their interest in trust benefits should the dealer fail to pay for livestock purchased. The revisions also required livestock sellers to acknowledge in writing that they forfeit rights to the dealer trust under the terms of credit sales to dealers. These provisions mirror existing regulatory provisions related to livestock and poultry sales under the Packers and Stockyards Act.

Completed:

Action | Date | FR Cite
Final Rule | 06/23/23 | 88 FR 41015
Final Action Effective | 07/24/23 |

Regulatory Flexibility Analysis Required: Yes.

Agency Contact: Stuart Frank, Phone: 515 323-2586, Email: stuart.frank@usda.gov.

RIN: 0581-AE01

241. Transparency in Poultry Grower Contracting and Tournaments (AMS-FTPP-21-0044) [0581-AE03]

Legal Authority: 7 U.S.C. 181 to 229c

Abstract: This action would amend regulations issued under the Packers and Stockyards Act (P&S Act), revising the list of disclosures and information live poultry dealers must furnish to poultry growers and sellers with whom dealers make poultry growing arrangements. The rule would establish parameters for the use of poultry grower ranking systems by dealers to determine settlement payments for poultry growers. Amendments are intended to promote transparency in poultry production contracting and to give poultry growers relevant information with which to make business decisions.

Completed:

Action | Date | FR Cite
Final Rule | 11/28/23 | 88 FR 83210
Final Rule Effective | 02/12/24 |

Regulatory Flexibility Analysis Required: Yes.

Agency Contact: Michael V. Durando, Phone: 202 720-0219.

RIN: 0581-AE03

242. Organic Livestock and Poultry Standards (AMS-NOP-21-0073) [0581-AE06]

Legal Authority: 7 U.S.C. 6501 to 6524

Abstract: This action would establish additional practice standards for organic livestock and poultry production. The rule would amend the USDA organic regulations related to: livestock and poultry living conditions (for example, outdoor access, housing environment, and stocking densities); animal health care (for example, physical alterations, administering medical treatment, and euthanasia); animal transport; and slaughter.

Completed:

Action | Date | FR Cite
Final Rule | 11/02/23 | 88 FR 75394
Final Rule Effective | 01/02/24 |

Regulatory Flexibility Analysis Required: Yes.

Agency Contact: Erin Healy, Phone: 202 617-4942, Email: erin.healy@usda.gov.

RIN: 0581-AE06

243. Economic Adjustment Assistance for Textile Mills [0581-AE26]

Legal Authority: 7 U.S.C. 9037(c)

Abstract: The Agricultural Marketing Service (AMS) revises the regulation providing guidance for domestic manufacturers that consume Upland Cotton and voluntarily participate in the Economic Adjustment Assistance for Textile Mills Program. The revisions add definitions and codify certain participant responsibilities currently outlined in the existing user Agreement. The changes made by this rule are intended to strengthen management controls that have been added into the Agreement to prevent fraud, waste, and abuse. This action provides the necessary legal support for program administration.

Timetable:

Action | Date | FR Cite
Final Rule; With request for Comments | 10/31/23 | 88 FR 74330
Final Rule Effective | 10/31/23 |
Final Rule Comment Period End | 11/30/23 |

Regulatory Flexibility Analysis Required: Yes.

Agency Contact: Dan Schofer, Cotton Program Manager, AMS, Fair Trade Practice Program, Department of Agriculture, Agricultural Marketing Service, 1400 Independence Avenue SW, Washington, DC 20250, Phone: 202 690-2434.

RIN: 0581-AE26

BILLING CODE 3410-02-P

DEPARTMENT OF AGRICULTURE (USDA)

Animal and Plant Health Inspection Service (APHIS)

Proposed Rule Stage

244. National List of Reportable Animal Diseases [0579-AE39]

Legal Authority: 7 U.S.C. 8301 to 8317

Abstract: This rulemaking amends our disease regulations to provide for a National List of Reportable Animal Diseases, along with reporting responsibilities for animal health professionals that encounter or suspect cases of communicable animal diseases and disease agents. The changes are necessary to streamline Federal cooperative animal disease detection, response, and control efforts. This action will consolidate and enhance current disease reporting mechanisms, and it will complement and supplement existing animal disease tracking and reporting at the State level. The Animal and Plant Health Inspection Service is evaluating the comments received during the revised proposed rule in fall 2023 and the reopening of the comment period.

Timetable:

Action | Date | FR Cite
NPRM | 04/02/20 | 85 FR 18471
NPRM Comment Period End | 06/01/20 |
NPRM Comment Period Reopened | 08/18/20 | 85 FR 50796
NPRM Comment Period Reopened End | 08/21/20 |
Revising Proposed Rule and Reopening Comment Period | 08/28/23 | 88 FR 58524
NPRM Comment Period End | 09/27/23 |
Reviewing Comments from Revised Proposed Rule | 11/27/23 |

Regulatory Flexibility Analysis Required: Yes.

Agency Contact: Jane Rooney, NLRAD Coordinator, Center for Epidemiology and Animal Health, Strategy and Policy, VS, Department of Agriculture, Animal and Plant Health Inspection Service, 2150 Centre Avenue, Building B, Mailstop 2E6, Fort Collins, CO 80526, Phone: 970 494-7397.

RIN: 0579-AE39

245. Revision to Horse Protection Act Regulations [0579-AE70]

Legal Authority: 15 U.S.C. 1823

Abstract: Current Horse Protection Act (HPA) regulations require Designated Qualified Persons (DQPs) to be licensed directly through Horse Industry Organizations (HIOs). DQPs conduct inspections of horses at HIO-affiliated shows, sales, auctions, and exhibitions to determine compliance with the HPA. We are proposing to amend the Horse Protection regulations by eliminating the role of HIOs and assigning inspection authority solely to Animal and Plant Health Inspection Service (APHIS) Veterinary Medical Officers and other third parties authorized and trained by APHIS. Other changes are also being contemplated. APHIS hosted a Tribal webinar to determine whether this rule would adversely impact Tribes, and received no concerns.

Timetable:

Action | Date | FR Cite
NPRM | 08/21/23 | 88 FR 56924
NPRM Comment Period End | 10/23/23 |
Reviewing Comments | 11/00/23 |

Regulatory Flexibility Analysis Required: Yes.

Agency Contact: Lance Bassage, VMD, Director, National Policy Staff, Animal Care, Department of Agriculture, Animal and Plant Health Inspection Service, 4700 River Road Unit 84, Riverdale, MD 20737, Phone: 301 851-3748, Email: lance.h.bassage@usda.gov.

RIN: 0579-AE70

246. AQI User Fees [0579-AE71]

Legal Authority: 21 U.S.C. 136a

Abstract: We are proposing multiple revisions to our AQI user fee regulations in order to facilitate full cost recovery as required by 21 U.S.C. 136a. We are proposing to update the fees using more current operational data, as well as update the fees to incorporate recurring costs such as capital improvements and staffing needs. Inflation would also be incorporated into our model. Other changes are also being contemplated. APHIS conducted a Tribal listening session to determine whether this action could adversely impact Tribes, and received no concerns.

Timetable:

Action | Date | FR Cite
NPRM | 08/11/23 | 88 FR 54796
NPRM Comment Period End | 10/10/23 |
Reviewing Comments | 11/00/23 |

Regulatory Flexibility Analysis Required: Yes.

Agency Contact: George Balady, PEIP Cost and Fee Analysis, PPQ, Department of Agriculture, Animal and Plant Health Inspection Service, 4700 River Road, Riverdale, MD 20737, Phone: 301 851-2338.

RIN: 0579-AE71

DEPARTMENT OF AGRICULTURE (USDA)

Animal and Plant Health Inspection Service (APHIS)

Final Rule Stage

247. Animal Disease Traceability; Electronic Identification [0579-AE64]

Legal Authority: 7 U.S.C. 8301 et seq.

Abstract: This action amends APHIS' animal disease traceability regulations, currently codified at 9 CFR part 86. The primary change requires that APHIS will only recognize identification devices (e.g., ear tags) as official identification for cattle and bison covered by the regulations if the devices have both visual and electronic readability (EID). Other changes clarify language and requirements in several sections of part 86. These changes will enhance the U.S. traceability system to better achieve goals of rapidly tracing diseased and exposed animals and containing outbreaks. APHIS' Animal Disease Traceability program has a long-standing relationship with Tribal nations to ensure the program incorporates Tribal feedback. APHIS provided webinars to Tribal nations in 2021 and 2022 to notify Tribes of this rulemaking and solicit requests for consultation. APHIS subsequently was in contact with an alliance of Western Tribes to apprise them of the status of the proposed rule.

Timetable:

Action | Date | FR Cite
NPRM | 01/19/23 | 88 FR 3320
NPRM Comment Period End | 03/20/23 |
NPRM Comment Period Extended | 03/20/23 | 88 FR 16576
NPRM Comment Period Extended End | 04/19/23 |
Final Rule | 04/00/24 |

Regulatory Flexibility Analysis Required: Yes.

Agency Contact: Dr. Aaron Scott Ph.D., DACVPM, Director, Department of Agriculture, Animal and Plant Health Inspection Service, National Animal Disease Traceability and Veterinary Accreditation Center, APHIS Veterinary Services Strategy and Policy, 2150 Centre Avenue, Building B (Mail Stop 3E87), Fort Collins, CO 80526, Phone: 970 494-7249, Email: traceability@usda.gov.

RIN: 0579-AE64

DEPARTMENT OF AGRICULTURE (USDA)

Animal and Plant Health Inspection Service (APHIS)

Long-Term Actions

248. Microchipping, Verifiable Signatures, Government Official Endorsement, and Mandatory Forms for Importation of Live Dogs; Cage Standards for Domestic Dogs [0579-AE58]

Legal Authority: 7 U.S.C. 2131 to 2159

Abstract: We are proposing to amend the regulations regarding the importation of live dogs by requiring all live dogs imported into the United States for resale purposes to be microchipped for permanent identification, and to require importers to procure a microchip reader and make it available to port-of-entry officials as requested. This action would also add microchipping as one of three identification options for dogs and cats used by dealers, exhibitors and research facilities. In addition, APHIS is proposing to require a verifiable signature on the health certificate and rabies certificate accompanying imported live dogs, an endorsement of the health certificate by a government official in the country of origin, and the mandatory use of forms provided by APHIS. Additionally, we are proposing to update cage standards for dogs held domestically by dealers or exhibitors who are licensed under the Animal Welfare Act or used in research at registered facilities. Other changes are also being contemplated.

Timetable:

Action | Date | FR Cite
NPRM | To Be Determined

Regulatory Flexibility Analysis Required: Yes.

Agency Contact: Lance Bassage, Phone: 301 851-3748, Email: lance.h.bassage@usda.gov.

RIN: 0579-AE58

DEPARTMENT OF AGRICULTURE (USDA)

Animal and Plant Health Inspection Service (APHIS)

Completed Actions

249. Importation of Bovine Meat From Paraguay [0579-AE73]

Legal Authority: 7 U.S.C. 450; 7 U.S.C. 7701 to 7772; 7 U.S.C. 7781 to 7786; 7 U.S.C. 8301 to 8317; 21 U.S.C. 136 and 136a; 31 U.S.C. 9701

Abstract: We are amending the regulations governing the importation of certain animals, meat, and other animal products by allowing, under certain conditions, the importation of fresh (chilled or frozen) beef from Paraguay. Based on the evidence from a risk analysis, we have determined that fresh beef can safely be imported from Paraguay, provided certain conditions are met. This action will provide for the importation of fresh beef from Paraguay into the United States while continuing to protect the United States against the introduction of foot-and-mouth disease.

Completed:

Reason | Date | FR Cite
Final Rule | 11/14/23 | 88 FR 77883
Final Rule Effective | 12/14/23 |

Regulatory Flexibility Analysis Required: Yes.

Agency Contact: Ingrid Kotowski, Phone: 919 855-7732.

RIN: 0579-AE73

BILLING CODE 3410-34-P

DEPARTMENT OF AGRICULTURE (USDA)

Food and Nutrition Service (FNS)

Long-Term Actions

250. National School Lunch and School Breakfast Programs: School Food Service Account Revenue Amendments Related to the Healthy, Hunger-Free Kids Act of 2010 [0584-AE11]

Legal Authority: Pub. L. 111-296

Abstract: This rule amends National School Lunch Program (NSLP) regulations to conform to requirements contained in the Healthy, Hunger-Free Kids Act of 2010 regarding equity in school lunch pricing and revenue from non-program foods sold in schools. This rule requires school food authorities participating in the NSLP to provide the same level of financial support for lunches served to students who are not eligible for free or reduced-price lunches as is provided for lunches served to students eligible for free lunches. This rule also requires that all food sold in a school and purchased with funds from the nonprofit school food service account other than meals and snacks reimbursed by the Department of Agriculture must generate revenue at least proportionate to the cost of such foods. This rulemaking will impact schools that participate in NSLP and households with students who participate in NSLP at the paid rate. USDA received stakeholder input on this rulemaking through the public comment process on the interim final rule.

Timetable:

Action | Date | FR Cite
Interim Final Rule | 06/17/11 | 76 FR 35301
Interim Final Rule Effective | 07/01/11 |
Interim Final Rule Comment Period End | 09/15/11 |
Final Rule | 09/00/25 |

Regulatory Flexibility Analysis Required: Yes.

Agency Contact: Michael DePiro, Phone: 703 305-2876, Email: michael.depiro@usda.gov.

Maureen Lydon, Phone: 703 457-7713, Email: maureen.lydon@usda.gov.

RIN: 0584-AE11

251. Technical Changes for Supplemental Nutrition Assistance Program (SNAP) Benefit Redemption Systems [0584-AE37]

Legal Authority: Pub. L. 113-79

Abstract: The Food and Nutrition Service (FNS) will propose changes that collectively modernize SNAP benefit issuance and increase program integrity while streamlining program administration, offering greater flexibility to State agencies, and improving customer service. The rule will propose to codify provisions of the 2014 Farm Bill, the 2018 Farm Bill, and respond to 2018 OIG audit findings. The rule will propose to codify 2014 Farm Bill provisions requiring most SNAP-authorized retailers to pay the costs associated with EBT equipment, supplies and related services and requirements pertaining to the online SNAP payment option. This rule would also propose to codify waivers that have been granted to State agencies to implement practices that have proven beneficial as the EBT system has developed and matured and update EBT system technical and functional requirements. FNS has not held any stakeholder engagement initiatives related to this rule but will evaluate the need for future initiatives as rule-making progresses. FNS does not anticipate any significant impacts on communities by this rule, as the proposed changes seek to codify existing program requirements.

Timetable:

Action | Date | FR Cite
NPRM | 06/00/25 |

Regulatory Flexibility Analysis Required: Yes.

Agency Contact: Michael DePiro, Phone: 703 305-2876, Email: michael.depiro@usda.gov.

Maureen Lydon, Phone: 703 457-7713, Email: maureen.lydon@usda.gov.

RIN: 0584-AE37

252. Providing Regulatory Flexibility for Retailers in the Supplemental Nutrition Assistance Program (SNAP) [0584-AE61]

Legal Authority: Pub. L. 113-79; 7 U.S.C. 2011 to 2036

Abstract: The Agricultural Act of 2014 amended the Food and Nutrition Act of 2008 to increase the requirement that certain Supplemental Nutrition Assistance Program (SNAP) authorized retail food stores have available on a continuous basis at least three varieties of items in each of four staple food categories, to a mandatory minimum of seven varieties. The Food and Nutrition Service (FNS) codified these mandatory requirements in 2016 though these provisions were subsequently blocked by Congress. This change will propose to provide some retailers participating in SNAP as authorized food stores with more flexibility in meeting the enhanced SNAP eligibility requirements. The stakeholder community includes SNAP applicant and authorized retailers required to meet eligibility requirements, public health and access focused advocacy organizations, and SNAP participants. Stakeholder engagement may include listening sessions with these stakeholders, though significant feedback is also available in comments submitted to the previously published proposed rule.

Timetable:

Action | Date | FR Cite
NPRM | 04/05/19 | 84 FR 13555
NPRM Comment Period End | 06/04/19 |
NPRM Comment Period Reopened | 06/14/19 | 84 FR 27743
NPRM Comment Period Reopen End | 06/20/19 |
Final Action | 04/00/25 |

Regulatory Flexibility Analysis Required: Yes.

Agency Contact: Michael DePiro, Phone: 703 305-2876, Email: michael.depiro@usda.gov.

Maureen Lydon, Phone: 703 457-7713, Email: maureen.lydon@usda.gov.

RIN: 0584-AE61

253. Strengthening Integrity and Reducing Retailer Fraud in the Supplemental Nutrition Assistance Program (SNAP) [0584-AE71]

Legal Authority: Pub. L. 113-79; Pub. L. 115-334

Abstract: This proposed rule would implement statutory provisions of the Food, Conservation, and Energy Act of 2008 (the 2008 Farm Bill), the Agriculture Improvement Act of 2018 (the 2018 Farm Bill), and other language intended to deter retailer fraud, abuse, and non-compliance in the Supplemental Nutrition Assistance Program (SNAP). Stakeholders are SNAP retailers and communities in which SNAP retailers provide SNAP participants access to food, other Programs that require SNAP authorization or where reciprocal actions impact participation, and SNAP participants. Stakeholder engagement may include listening sessions; however, significant feedback from stakeholders is also available in the public comments submitted on previously proposed rule.

Timetable:

Action | Date | FR Cite
NPRM | 11/00/24 |

Regulatory Flexibility Analysis Required: Yes.

Agency Contact: Michael DePiro, Phone: 703 305-2876, Email: michael.depiro@usda.gov.

Maureen Lydon, Phone: 703 457-7713, Email: maureen.lydon@usda.gov.

RIN: 0584-AE71

254. Special Supplemental Nutrition Program for Women, Infants and Children (WIC): WIC Online Ordering and Transactions and Food Delivery Revisions To Meet the Needs of a Modern, Data-Driven Program [0584-AE85]

Legal Authority: Pub. L. 111-296

Abstract: This final rulemaking addresses key regulatory barriers to online ordering in the WIC Program by making changes to the provisions that prevent online transactions and types of online capable stores from participating in the Program. This rule will also allow FNS to modernize WIC vendor regulations that do not reflect current technology and facilitate the Program's transition to EBT. To inform the development of the proposed rule, FNS reviewed materials developed by a variety of WIC stakeholders, including WIC providers, vendors, manufacturers, EBT processors, advocacy organizations, and WIC participants; as well as a report issued by a task force convened by USDA comprised of 18 organizations from multiple sectors to ensure a diverse range of input. FNS will consider public comments received during the proposed rulemaking stage in development of this final rule.

Timetable:

Action | Date | FR Cite
NPRM | 02/23/23 | 88 FR 11516
NPRM Comment Period End | 05/24/23 |
Final Action | 02/00/25 |

Regulatory Flexibility Analysis Required: Yes.

Agency Contact: Michael DePiro, Phone: 703 305-2876, Email: michael.depiro@usda.gov.

Maureen Lydon, Phone: 703 457-7713, Email: maureen.lydon@usda.gov.

RIN: 0584-AE85

[FR Doc. 2024-00517 Filed 2-8-24; 8:45 am]

BILLING CODE 3410-30-P